DEPARTMENT OF HOMELAND SECURITY

Federal Emergency Management Agency

[Docket ID FEMA-2016-0002]

Final Flood Hazard Determinations

AGENCY: Federal Emergency Management Agency, DHS.

ACTION: Final Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The effective date of May 16, 2016 which has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at www.msc.fema.gov by the effective date indicated above.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at www.msc.fema.gov.

The flood hazard determinations are made final in the watersheds and/or communities listed in the table below.

(Catalog of Federal Domestic Assistance No. 97.022, “Flood Insurance.”)

Dated: February 2, 2016.
Roy E. Wright,
Deputy Associate Administrator for Insurance and Mitigation, Department of Homeland Security, Federal Emergency Management Agency.

I. Watershed-based studies:

Community | Community map repository address
Lower Wisconsin Watershed
Columbia County, Wisconsin, and Incorporated Areas
Docket No.: FEMA-B-1434
City of Columbus | City Hall, 105 North Dickason Boulevard, Columbus, WI 53925.
City of Lodi | City Hall, 130 South Main Street, Lodi, WI 53555.
City of Portage | City Hall, 115 West Pleasant Street, Portage, WI 53901.
City of Wisconsin Dells | City Hall, 300 La Crosse Street, Wisconsin Dells, WI 53965.
Unincorporated Areas of Columbia County | Carl C. Frederick Administration Building, 400 DeWitt Street, Portage, WI 53901.
Village of Cambria | Village Hall, 111 West Edgewater Street, Cambria, WI 53923.
Village of Doylestown | Village Hall, W3005 Railroad Street, Doylestown, WI 53928.
Village of Fall River | Village Hall, 641 South Main Street, Fall River, WI 53932.
Village of Pardeeville | Village Hall, 114 Lake Street, Pardeeville, WI 53954.
Village of Poynette | Village Hall, 106 South Main Street, Poynette, WI 53955.
Village of Wyocena | Village Hall, 165 East Dodge Street, Wyocena, WI 53969.

II. Non-watershed-based studies:

Community | Community map repository address
Logan County, Colorado, and Incorporated Areas
Docket No.: FEMA-B-1457
City of Sterling | Planning and Zoning Division, 421 North Fourth Street, Sterling, CO 80751.
Town of Crook | Town Hall, 212 Fourth Street, Crook, CO 80726.
Town of Iliff | Town Hall, 405 West Second Avenue, Iliff, CO 80736.
Town of Merino | Town Hall, 206 Colorado Avenue, Merino, CO 80741.
Unincorporated Areas of Logan County | Planning and Zoning Department, 315 Main Street, Sterling, CO 80751.
City of Hampton, Virginia (Independent City)
Docket No.: FEMA-B-1451
City of Hampton | Public Works Engineering, 22 Lincoln Street, Hampton, VA 23669.
King and Queen County, Virginia, and Incorporated Areas
Docket No.: FEMA-B-1359
Unincorporated Areas of King and Queen County | King and Queen County Complex Building, County Administrator's Office, 242 Allens Circle, Suite L, King and Queen Court House, VA 23085.

[FR Doc. 2016-04885 Filed 3-4-16; 8:45 am]

BILLING CODE 9110-12-P